DEPARTMENT OF TRANSPORTATION

Federal Aviation Administration

14 CFR Part 39

[Docket No. 2004-NM-33-AD; Amendment 39-13898; AD 2004-25-10]

RIN 2120-AA64

Airworthiness Directives; Boeing Model 767-300 and -400ER Series Airplanes

AGENCY: Federal Aviation Administration, DOT.

ACTION: Final rule.

SUMMARY: This amendment adopts a new airworthiness directive (AD), applicable to certain Boeing Model 767-300 and -400ER series airplanes, that requires replacing the tie rods for the waste tank cradle, related investigative actions, corrective actions, and special retrofit action if necessary. This action is necessary to prevent possible failure of the main deck floor stanchions and consequent collapse of the main floor during an emergency landing, which could result in passenger injury and impede passenger evacuation from the airplane. This action is intended to address the identified unsafe condition.

DATES: Effective January 13, 2005.

The incorporation by reference of certain publications listed in the regulations is approved by the Director of the Federal Register as of January 13, 2005.

ADDRESSES: The service information referenced in this AD may be obtained from Boeing Commercial Airplanes, PO Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Susan Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION: A proposal to amend part 39 of the Federal Aviation Regulations (14 CFR part 39) to include an airworthiness directive (AD) that is applicable to certain Boeing Model 767-300 and -400ER series airplanes was published in the Federal Register on June 16, 2004 (69 FR 33597). That action proposed to require replacing the tie rods for the waste tank cradle, related investigative actions, corrective actions, and special retrofit action if necessary.

Comments

Interested persons have been afforded an opportunity to participate in the making of this amendment. Due consideration has been given to the comment received.

Request To Revise “Parts Installation” Section

One commenter requests that we revise paragraph (c) of the proposed AD from “* * * on any airplane” to “* * * on any airplane applicable for this AD.” The commenter requests this change in order for the paragraph to be consistent with the rest of the document and to avoid possible misinterpretation.

We agree with the commenter's request to revise paragraph (c) of the AD. All of the requirements stated in this AD are applicable only to the airplanes listed in the applicability statement. However, the phrasing of paragraph (c) in the proposed AD may confuse or mislead some operators. Therefore, we have revised paragraph (c) of this AD to clarify that the paragraph applies to any airplane “to which this AD applies.”

Conclusion

After careful review of the available data, including the comment noted above, the FAA has determined that air safety and the public interest require the adoption of the rule with the change previously described. The FAA has determined that this change will neither increase the economic burden on any operator nor increase the scope of the AD.

Cost Impact

There are approximately 97 airplanes of the affected design in the worldwide fleet. The FAA estimates that 42 airplanes of U.S. registry will be affected by this AD, that it will take approximately 2 work hours per airplane to accomplish the required actions, and that the average labor rate is $65 per work hour. Required parts will cost approximately $2,471 per airplane. Based on these figures, the cost impact of the AD on U.S. operators is estimated to be $109,242, or $2,601 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-25-10 Boeing: Amendment 39-13898. Docket 2004-NM-33-AD.

Applicability: Model 767-300 series airplanes, as listed in Boeing Alert Service Bulletin 767-38A0062, dated August 15, 2002; and Model 767-400ER series airplanes, as listed in Boeing Alert Service Bulletin 767-38A0063, dated August 15, 2002; certificated in any category.

Compliance: Required as indicated, unless accomplished previously.

To prevent failure of the main deck floor stanchions and consequent collapse of the main floor during an emergency landing, which could result in passenger injury and impede passenger evacuation from the airplane, accomplish the following:

Replacement and Related Investigative and Corrective Actions and Retrofit Action

(a) Within 18 months after the effective date of this AD: Replace the four tie rods for the waste tank cradle with new tie rods and do all applicable related investigative actions, corrective actions, and special retrofit actions by accomplishing all the actions in the Accomplishment Instructions of Boeing Alert Service Bulletins 767-38A0062 (for Model 767-300 series airplanes) and 767-38A0063 (for Model 767-400ER series airplanes), both dated August 15, 2002; as applicable. Do the actions in accordance with the applicable service bulletin except as provided by paragraph (b) of this AD. Accomplish any related investigative, corrective, or special retrofit action before further flight.

(b) If any deformation, crack, or other damage is found during any related investigative action required by paragraph (a) of this AD, and the bulletin specifies contacting Boeing for appropriate action: Before further flight, perform the special retrofit action per a method approved by the Manager, Seattle Aircraft Certification Office (ACO), FAA. For a retrofit method to be approved by the Manager, Seattle ACO, as required by this paragraph, the Manager's approval letter must specifically refer to this AD.

Parts Installation

(c) As of the effective date of this AD, no person may install any tie rod for the waste tank cradle having part number 251T0100-1401, 251T0100-1402, 251T0100-1403, or 251T0100-1404, on any airplane to which this AD applies.

Alternative Methods of Compliance

(d) In accordance with 14 CFR 39.19, the Manager, Seattle ACO, FAA, is authorized to approve alternative methods of compliance (AMOCs) for this AD.

Incorporation by Reference

(e) Unless otherwise specified in this AD, the actions shall be done in accordance with Boeing Alert Service Bulletin 767-38A0062, dated August 15, 2002; and Boeing Alert Service Bulletin 767-38A0063, dated August 15, 2002; as applicable. This incorporation by reference was approved by the Director of the Federal Register in accordance with 5 U.S.C. 552(a) and 1 CFR part 51. Copies may be obtained from Boeing Commercial Airplanes, PO Box 3707, Seattle, Washington 98124-2207. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Effective Date

(f) This amendment becomes effective on January 13, 2005.

Issued in Renton, Washington, on November 30, 2004.
Ali Bahrami,
Manager, Transport Airplane Directorate, Aircraft Certification Service.

[FR Doc. 04-26917 Filed 12-8-04; 8:45 am]

BILLING CODE 4910-13-P